DEPARTMENT OF ENERGY

10 CFR Part 430

[Docket Number EERE-2007-BT-STD-0010]

RIN 1904-AA89

Energy Conservation Program: Energy Conservation Standards for Residential Clothes Dryers and Room Air Conditioners

AGENCY: Office of Energy Efficiency and Renewable Energy, Department of Energy.

ACTION: Proposed rule.

SUMMARY: In a direct final rule published on April 21, 2011, DOE adopted amended energy conservation standards for residential clothes dryers and room air conditioners. As required by EPCA, DOE also published simultaneously a notice of proposed rulemaking (NOPR) that proposed identical energy efficiency standards. The standards set forth in the direct final rule and NOPR were consistent with the consensus agreement that served as the basis for those rulemaking actions. The consensus agreement also provided specific compliance dates for both products—June 1, 2014 for room air conditioners and January 1, 2015 for clothes dryers. In the direct final rule and NOPR, however, DOE provided for a compliance date 3 years after the date of publication in the Federal Register, or April 21, 2014. As such, the compliance date of the direct final rule and NOPR did not correspond with the consensus agreement. DOE now proposes to amend the compliance dates set forth in the direct final rule and corresponding NOPR to be consistent with the compliance dates set out in the consensus agreement.

DATES: Written comments and information are requested by June 8, 2011.

ADDRESSES: Any comments submitted must identify the direct final rule for Energy Conservation Standards for Residential Clothes Dryers and Room Air Conditioners, and provide docket number EERE-2007-BT-STD-0010 and/or regulatory information number (RIN) number 1904-AA89. Comments may be submitted using any of the following methods:

1. Federal eRulemaking Portal: http://www.regulations.gov. Follow the instructions for submitting comments.

2. E-mail: home_appliance2.rulemaking@ee.doe.gov. Include the docket number and/or RIN in the subject line of the message.

3. Mail: Ms. Brenda Edwards, U.S. Department of Energy, Building Technologies Program, Mailstop EE-2J, 1000 Independence Avenue, SW., Washington, DC 20585-0121. If possible, please submit all items on a CD. It is not necessary to include printed copies.

4. Hand Delivery/Courier: Ms. Brenda Edwards, U.S. Department of Energy, Building Technologies Program, 950 L'Enfant Plaza, SW., Suite 600, Washington, DC 20024. Telephone: (202) 586-2945. If possible, please submit all items on a CD. It is not necessary to include printed copies.

Docket: The docket is available for review at regulations.gov, including Federal Register notices, framework documents, public meeting attendee lists and transcripts, comments, and other supporting documents/materials. All documents in the docket are listed in the regulations.gov index. Not all documents listed in the index may be publicly available, such as information that is exempt from public disclosure.

A link to the docket Web page can be found at: http://www.regulations.gov.

For further information on how to submit or review public comments or view hard copies of the docket, contact Ms. Brenda Edwards at (202) 586-2945 or e-mail: Brenda.Edwards@ee.doe.gov.

FOR FURTHER INFORMATION CONTACT:

Stephen L. Witkowski, U.S. Department of Energy, Office of Energy Efficiency and Renewable Energy, Building Technologies Program, EE-2J, 1000 Independence Avenue, SW., Washington, DC 20585-0121, (202) 586-7463, e-mail: stephen.witkowski@ee.doe.gov.

Ms. Elizabeth Kohl, U.S. Department of Energy, Office of General Counsel, GC-71, 1000 Independence Avenue, SW., Washington, DC, 20585-0121, (202) 586-7796, e-mail: Elizabeth.Kohl@hq.doe.gov.

SUPPLEMENTARY INFORMATION: DOE published a direct final rule to establish amended energy conservation standards for clothes dryers and room air conditioners on April 21, 2011 (76 FR 22454, April 21, 2011).

EPCA, as amended, grants DOE authority to issue a final rule (hereinafter referred to as a “direct final rule”) establishing an energy conservation standard on receipt of a statement submitted jointly by interested persons that are fairly representative of relevant points of view (including representatives of manufacturers of covered products, States, and efficiency advocates) as determined by the Secretary, that contains recommendations with respect to an energy conservation standard that are in accordance with the provisions of 42 U.S.C. 6295(o). EPCA also requires a notice of proposed rulemaking (NOPR) that proposes an identical energy efficiency standard to be published simultaneously with the final rule. A public comment period of at least 110 days must be provided. 42 U.S.C. 6295(p)(4). Not later than 120 days after issuance of the direct final rule, if one or more adverse comments or an alternative joint recommendation are received relating to the direct final rule, the Secretary must determine whether the comments or alternative recommendation may provide a reasonable basis for withdrawal under 42 U.S.C. 6295(o) or other applicable law. If the Secretary makes such a determination, DOE must withdraw the direct final rule and proceed with the simultaneously published notice of proposed rulemaking. DOE must publish in the Federal Register the reason why the direct final rule was withdrawn. Id.

During the rulemaking proceeding to develop amended standards for clothes dryers and room air conditioners, DOE received the “Agreement on Minimum Federal Efficiency Standards, Smart Appliances, Federal Incentives and Related Matters for Specified Appliances” (the “Joint Petition”), a comment submitted by groups representing manufacturers (the Association of Home Appliance Manufacturers (AHAM), Whirlpool Corporation (Whirlpool), General Electric Company (GE), Electrolux, LG Electronics, Inc. (LG), BSH Home Appliances (BSH), Alliance Laundry Systems (ALS), Viking Range, Sub-Zero Wolf, Friedrich A/C, U-Line, Samsung, Sharp Electronics, Miele, Heat Controller, AGA Marvel, Brown Stove, Haier, Fagor America, Airwell Group, Arcelik, Fisher & Paykel, Scotsman Ice, Indesit, Kuppersbusch, Kelon, and DeLonghi); energy and environmental advocates (American Council for an Energy Efficient Economy (ACEEE), Appliance Standards Awareness Project (ASAP), Natural Resources Defense Council (NRDC), Alliance to Save Energy (ASE), Alliance for Water Efficiency (AWE), Northwest Power and Conservation Council (NPCC), and Northeast Energy Efficiency Partnerships (NEEP)); and consumer groups (Consumer Federation of America (CFA) and the National Consumer Law Center (NCLC)) (collectively, the “Joint Petitioners”). This collective set of comments, which DOE refers to in this notice as the “Joint Petition”¹ or “Consensus Agreement” recommends specific energy conservation standards for residential clothes dryers and room air conditioners that, in the commenters' view, would satisfy the EPCA requirements in 42 U.S.C. 6295(o). The Joint Petition also sets forth compliance dates for these recommended standards. The compliance dates are June 1, 2014 for room air conditioners and January 1, 2015 for clothes dryers.

¹ DOE Docket No. EERE-2007-BT-STD-0010, Comment 35. DOE considered the Joint Petitioners comments to supersede earlier comments by the listed parties regarding issues subsequently discussed in the Joint Petition.

As discussed in the direct final rule, DOE determined that the relevant criteria under 42 U.S.C. 6295(p)(4) were satisfied and that it was appropriate to adopt amended energy conservation standards for clothes dryers and room air conditioners through the direct final rule. In publishing the direct final rule, however, DOE inadvertently specified a compliance date 3 years after publication of the direct final rule in the Federal Register, rather than specifying the compliance dates set forth in the Joint Petition. In today's proposed rule, DOE proposes to adopt those compliance dates. Specifically, for room air conditioners, DOE proposes a compliance date of June 1, 2014, and for clothes dryers, DOE proposes a compliance date of January 1, 2015. DOE seeks comment on these compliance dates.

Procedural Issues and Regulatory Review

The regulatory reviews conducted for this proposed rule remain unchanged from those conducted for the direct final rule establishing the amended energy conservation standards. DOE does not believe that the changes in the compliance dates—approximately one and a half months for room air conditioners and eight and a half months for clothes dryers—would result in changes to those analyses. Please see the direct final rule for further details.

List of Subjects in 10 CFR Part 430

Administrative practice and procedure, Confidential business information, Energy conservation, Household appliances, Reporting and recordkeeping requirements, and Small businesses.

Issued in Washington, DC, on May 3, 2011.
Kathleen Hogan,
Deputy Assistant Secretary for Energy Efficiency, Office of Technology Development, Energy Efficiency and Renewable Energy.

For the reasons set forth in the preamble, DOE proposes to amend chapter II, subchapter D, of title 10 of the Code of Federal Regulations, as set forth below:

PART 430—ENERGY CONSERVATION PROGRAM FOR CONSUMER PRODUCTS

1. The authority citation for part 430 continues to read as follows:

Authority: 42 U.S.C. 6291-6309; 28 U.S.C. 2461 note.

2. Revise § 430.32 paragraphs (b), and (h) to read as follows:

§ 430.32 Energy and water conservation standards and their effective dates.

* * * * *

(b) Room air conditioners.

Product class | Energy efficiency ratio, effective from Oct. 1, 2000 to May 31, 2014 | Combined energy efficiency ratio, effective as of June 1, 2014
1. Without reverse cycle, with louvered sides, and less than 6,000 Btu/h | 9.7 | 11.0
2. Without reverse cycle, with louvered sides, and 6,000 to 7,999 Btu/h | 9.7 | 11.0
3. Without reverse cycle, with louvered sides, and 8,000 to 13,999 Btu/h | 9.8 | 10.9
4. Without reverse cycle, with louvered sides, and 14,000 to 19,999 Btu/h | 9.7 | 10.7
5a. Without reverse cycle, with louvered sides, and 20,000 to 24,999 Btu/h | 8.5 | 9.4
5b. Without reverse cycle, with louvered sides, and 25,000 Btu/h or more |  | 9.0
6. Without reverse cycle, without louvered sides, and less than 6,000 Btu/h | 9.0 | 10.0
7. Without reverse cycle, without louvered sides, and 6,000 to 7,999 Btu/h | 9.0 | 10.0
8a. Without reverse cycle, without louvered sides, and 8,000 to 10,999 Btu/h | 8.5 | 9.6
8b. Without reverse cycle, without louvered sides, and 11,000 to 13,999 Btu/h |  | 9.5
9. Without reverse cycle, without louvered sides, and 14,000 to 19,999 Btu/h | 8.5 | 9.3
10. Without reverse cycle, without louvered sides, and 20,000 Btu/h or more | 8.5 | 9.4
11. With reverse cycle, with louvered sides, and less than 20,000 Btu/h | 9.0 | 9.8
12. With reverse cycle, without louvered sides, and less than 14,000 Btu/h | 8.5 | 9.3
13. With reverse cycle, with louvered sides, and 20,000 Btu/h or more | 8.5 | 9.3
14. With reverse cycle, without louvered sides, and 14,000 Btu/h or more | 8.0 | 8.7
15. Casement-Only | 8.7 | 9.5
16. Casement-Slider | 9.5 | 10.4

* * * * *

(h) Clothes dryers. (1) Gas clothes dryers manufactured after January 1, 1988 shall not be equipped with a constant burning pilot.

(2) Clothes dryers manufactured on or after May 14, 1994 and before January 1, 2015, shall have an energy factor no less than:

Product class | Energy factor (lbs/kWh)
i. Electric, Standard (4.4 ft³ or greater capacity) | 3.01
ii. Electric, Compact (120V) (less than 4.4 ft³ capacity) | 3.13
iii. Electric, Compact (240V) (less than 4.4 ft³ capacity) | 2.90
iv. Gas | 2.67

(3) Clothes dryers manufactured on or after January 1, 2015, shall have a combined energy factor no less than:

Product class | Combined energy factor (lbs/kWh)
i. Vented Electric, Standard (4.4 ft³ or greater capacity) | 3.73
ii. Vented Electric, Compact (120V) (less than 4.4 ft³ capacity) | 3.61
iii. Vented Electric, Compact (240V) (less than 4.4 ft³ capacity) | 3.27
iv. Vented Gas | 3.30
v. Ventless Electric, Compact (240V) (less than 4.4 ft³ capacity) | 2.55
vi. Ventless Electric, Combination Washer-Dryer | 2.08

* * * * *

[FR Doc. 2011-11237 Filed 5-6-11; 8:45 am]

BILLING CODE 6450-01-P